DEPARTMENT OF THE INTERIOR

Bureau of Land Management

[CA-660-07-1610-DO-097B]

Notice of Intent To Prepare a Resource Management Plan Revision and Associated Environmental Impact Statement for the South Coast Planning Area, California

AGENCY: Bureau of Land Management, Interior.

ACTION: Notice of Intent.

SUMMARY: The Bureau of Land Management (BLM) Palm Springs-South Coast Field Office, California, intends to revise its 1994 South Coast Resource Management Plan (RMP) and prepare an associated Environmental Impact Statement (EIS). The revised RMP will replace the current RMP. This notice initiates the scoping process, invites public participation, and announces public scoping meetings.

DATES: Written comments and resource information should be submitted within 30 calendar days of the last scheduled public scoping meeting. Public scoping meetings will be held in San Diego County, Riverside County, and Los Angeles County in order to ensure local community participation and input. All public meetings will be announced through the local news media, newsletters, and the BLM Web site (http://www.blm.gov/ca) at least 15 days prior to the event.

ADDRESSES: Written comments may be submitted by any of the following methods:

• Mail: Field Manager, South Coast Resource Management Plan and EIS, Bureau of Land Management, Palm Springs-South Coast Field Office, P.O. Box 581260, North Palm Springs, CA 92258.

• Fax: (760) 251-4899.

• E-mail: gchill@ca.blm.gov.

Before including your address, phone number, e-mail address, or other personal identifying information in your comment, you should be aware that your entire comment—including your personal identifying information—may be made publicly available at any time. While you can ask us in your comment to withhold your personal identifying information from public review, we cannot guarantee that we will be able to do so. Documents pertinent to this proposal, including comments with the names and addresses of respondents, will be available for public review at the BLM Palm Springs-South Coast Field Office located at 690 W. Garnet Avenue, North Palm Springs, California, or the San Diego Project Office located at 10845 Rancho Bernardo Road, Suite 200, San Diego, California, during regular business hours of 8 a.m. to 4:30 p.m., Monday through Friday, except holidays, and may be published as part of the EIS.

FOR FURTHER INFORMATION CONTACT: For further information and/or to have your name added to our mailing list contact Greg Hill at (760) 251-4840, or by e-mail to gchill@ca.blm.gov.

SUPPLEMENTARY INFORMATION: The South Coast Resource Management Plan (RMP) provides guidance for the management of approximately 300,000 acres of BLM administered public lands in portions of five highly urbanized Southern California counties: San Diego, Riverside, San Bernardino, Orange, and Los Angeles. These public lands include over 130,000 acres of BLM administered surface lands and 167,000 acres of Federal mineral ownership where the surface is privately owned.

The existing South Coast RMP was completed and signed in 1994. Since that time there have been significant changes in the patterns of urban growth, increased demands on the resources of the public lands, changing policies and emphasis on the management of public lands and local land use planning, and new data that has led to the listing of additional threatened or endangered species. Under BLM planning regulations (43 CFR 1610.5-6) RMP revisions are necessary if monitoring and evaluation findings, new data, new or revised policy, or changes in circumstances indicate that decisions for an entire plan or a major portion of the plan no longer serve as a useful guide for resource management. Plan revisions are prepared using the same procedures and documentation as for new plans.

The purpose of the public scoping process is to determine relevant issues that will influence the scope of the environmental analysis and EIS alternatives. These issues will also guide the planning process. You may submit comments on issues and planning criteria in writing to the BLM at any public scoping meeting, or you may submit them to the BLM using one of the methods listed under ADDRESSES above. Preliminary issues identified for consideration in the RMP include: Impacts posed by rapid population and urban growth; the need to make resource decisions that are scientifically sound, in accordance with authorities applicable to management by BLM of the public lands, and sustainable; the need to maximize the use of public lands in species recovery and to support collaborative efforts with local governments in land use planning for habitat conservation; the need to provide access to significant energy and mineral resources, communication sites, and utility corridors; impacts and benefits from the continuation of grazing; Native American concerns and traditional uses; cultural resources; suitability for wild and scenic rivers; wilderness characteristics of acquired lands; visual resources; wildland fire and fuels management; and the need to provide adequate access, open space, and facilities for safe recreation and visitation on public lands. Existing Areas of Critical Environmental Concern will be evaluated for continued relevance and importance, and new ACEC designations will be considered.

In addition to these major issues, a number of management questions and concerns will be addressed in the plan. The public is encouraged to help identify these questions and concerns during the scoping phase. An interdisciplinary approach will be used to develop the plan in order to consider the variety of resource issues and concerns identified. Disciplines involved in the planning process will include specialists with expertise in rangeland management, minerals and geology, wildland fire and fuels management, outdoor recreation, archaeology, paleontology, wildlife, fisheries, lands and realty, soils, water and air, wild horses, environmental justice, and sociology and economics.

The following planning criteria have been proposed to guide development of the plan, avoid unnecessary data collection and analyses, and to ensure the plan is tailored to the issues. Other criteria may be identified during the public scoping process. After gathering comments on planning criteria, the BLM will finalize the criteria and provide feedback to the public on the criteria to be used throughout the planning process. Some of the planning criteria that are under consideration include:

• The plan will be completed in compliance with the Federal Land Policy and Management Act (43 U.S.C. 1701 et seq.) and the National Environmental Policy Act;

• The plan will recognize valid existing rights;

• Public participation will be encouraged throughout the process by collaborating and building relationships with tribes, state and local governments, Federal agencies, local stakeholders, and others with interest in the plan. Collaborators are regularly informed and offered timely and meaningful opportunities to participate in the planning process.

Authority: 43 CFR 1610.2(c).

John Kalish,
Field Manager.

[FR Doc. E7-15365 Filed 8-6-07; 8:45 am]

BILLING CODE 4310-40-P